SECURITIES AND EXCHANGE COMMISSION

Sunshine Act Meeting

Notice is hereby given, pursuant to the provisions of the Government in the Sunshine Act, Public Law. 94-409, that the Securities and Exchange Commission will hold a Closed Meeting on Monday, December 16, 2013 at 3:00 p.m.

Commissioners, Counsel to the Commissioners, the Secretary to the Commission, and recording secretaries will attend the Closed Meeting. Certain staff members who have an interest in the matters also may be present.

The General Counsel of the Commission, or her designee, has certified that, in her opinion, one or more of the exemptions set forth in 5 U.S.C. 552b(c)(3), (5), (7), 9(B) and (10) and 17 CFR 200.402(a)(3), (5), (7), 9(ii) and (10), permit consideration of the scheduled matter at the Closed Meeting.

Commissioner Stein, as duty officer, voted to consider the item listed for the Closed Meeting in a closed session, and determined that no earlier notice was practicable.

The subject matter of the Closed Meeting will be:

Post argument discussion

At times, changes in Commission priorities require alterations in the scheduling of meeting items.

For further information and to ascertain what, if any, matters have been added, deleted or postponed, please contact the Office of the Secretary at (202) 551-5400.

Dated: December 12, 2013.
Elizabeth M. Murphy,
Secretary.

[FR Doc. 2013-30052 Filed 12-13-13; 11:15 am]

BILLING CODE 8011-01-P